DEPARTMENT OF THE INTERIOR

National Park Service

30-Day Notice of Submission to the Office of Management and Budget; Opportunity for Public Comment

AGENCY: Department of the Interior, National Park Service.

ACTION: Notice and request for comments.

SUMMARY: Under provisions of the Paperwork Reduction Act of 1995 and 5 CFR Part 1320, Reporting and Recordkeeping Requirements, the National Park Service (NPS) invites public comments on a proposed new collection of information (OMB #1024-XXXX).

DATES: Public comments on this Information Collection Request (ICR) will be accepted on or before September 27, 2007.

ADDRESSES: You may submit comments directly to the Desk Officer for the Department of the Interior (OMB #1024-XXXX), Office of Information and Regulatory Affairs, OMB, by fax at 202/395-6566, or by electronic mail at oira_docket@omb.eop.gov. Please also send a copy of your comments to Patricia A. Taylor, University of Wyoming, Department of Sociology/Dept. 3293, 1000 E. University Ave., Laramie, Wyoming 82071; or via phone at 307/766-6870; or via e-mail at gaia@uwvo.edu.

FOR FURTHER INFORMATION CONTACT: Dr. James Gramann, NPS Social Science Program, 1201 I. St., NW., Washington, DC 20005; or via phone at 202/513-7189; or via e-mail at James_Gramann@partner.nps.gov., or by fax at 979/845-4792. You are entitled to a copy of the entire ICR package free-of-charge.

Comments Received on the 60-Day Federal Register Notice: The NPS published a 60-Day Notice to solicit public comments on this ICR in the Federal Register on December 6, 206 (Vol. 71, 234, Page 70786-70787). The comment period closed on February 5, 2007. After multiple notifications to stakeholders requesting comments, the NPS received five comments as a result of the publication of this 60-Day Federal Register Notice.

One respondent was concerned over the number of surveys the NPS conducts and the potential for bias in all surveys. However, there is no duplication of information with this study, as the Comprehensive Survey of the American Public is the one national survey that focuses on issues of importance to the NPS. Moreover, it is the only national survey that contacts non-visitors to National Park System units. In addition to visitors, non-visitors comprise a population of vital interest to the NPS. Two of the respondents wanted to be reassured that the results of the survey would be communicated to them directly (American Recreation Coalition and National Parks Conservation Association). One respondent suggest a number of questions, which were, or are now, part of the survey, with one exception. America Outdoors suggested a question on attitudes toward fees to enter the park. This question is quite “layered” in that there are several different kinds of fees (the annual parks pass, the specific fee for one park, additional access fees for special areas, and passes for the disabled). Moreover, the recent national survey for the Departments of the Interior and Agriculture for the Interagency America the Beautiful Pass addressed these issues only one year earlier. Therefore, this question is not included in the 2007 NPS Comprehensive Survey. Finally, the National Park Hospitality Association was fundamentally concerned with the “creation” of resources such as soundscape, and suggested that such questions be removed from the survey. The General Authorities Act of 1970 and the 1978 amendment to the Act known as the Redwood amendment, as well as the National Parks Omnibus Management Act of 1998, contain the basis of the NPS management policies on natural resources, including soundscapes. The soundscape management policy of the NPS is detailed in section 4.9 of “Management Policies 2006” of the NPS, which states (NPS 206:56) that “Using appropriate management planning, superintendents will identify what levels and types of unnatural sound constitute acceptable impacts on park natural soundscapes.” This survey will assist in that planning process.

SUPPPLEMENTARY INFORMATION: Title: 2007 National Park Service Comprehensive Survey of the American Public.

Bureau Form Number(s): None.

OMB Number: To be requested.

Expiration Date: To be requested.

Type of Request: New Collection.

Description of Need: The NPS conducted its last comprehensive survey of the American public in 2000. That survey provided valuable information on patterns of use and non-use of parks and on the demographic characteristics of visitors and non-visitors that have been used to inform NPS decision-making. However, since 2000 many events and actions have occurred with the potential to affect the public's knowledge, behavior, and opinions regarding the NPS and the National Park System. Examples include the terrorist attacks of September 11, 2001, higher fuel prices, and several catastrophic hurricanes and wildfires. In addition, the U.S. population has aged and become more racially and ethnically diverse since the last comprehensive survey.

Although the NPS and its research partners regularly survey visitors to selected National Park System Units, these separate surveys cannot be rolled up into a description of visitors at the national and regional levels, nor do they describe the knowledge, attitudes, and behaviors of non-visitors and former visitors. Furthermore, individual park visitor surveys are not able to show trends in the knowledge, opinions, and behavior of the U.S. population over time. This information is essential to informing many important planning and management decisions of the NPS, ranging from visitor services, fee policy, and resource management actions to civic engagement and visitors and non-visitors over time can also provide a perspective on how national and regional populations are changing in their knowledge of the National Park System and in their use of parks, including leisure travel patterns, perceived service quality, and constraints to park visitation.

The method of information collection for the 2007 survey will be a nationwide telephone survey of households conducted using a random-digit-dial (RDD) telephone sample, disproportionately stratified by the seven NPS administrative regions (including the states of Alaska and Hawaii). In each of the seven regions, 500 completed interviews of about 15 minutes length will be obtained, for a total of 3,500 completions. The data collected from the comprehensive survey will profile patterns in visitation and non-visitation to the National Park System. These findings will be described in a national technical report and in reports for each of the seven NPS regions. Thematic reports on specific policy and management issues included in the survey will be produced, and a summary report tracking changes in key variables between 2000 and 2007 will be written. In order to produce the best survey possible, the NPS has been and will continue to conduct development work in the form of pre-testing, cognitive interviews, and focus groups to inform survey design.

The increase in the popularity of cell phone calls into question the adequacy of conventional land-line sampling frames from which households are selected through random digit dialing (RDD). Looking to the future, survey methodology will need a mechanism to sample additional cell users. In this survey, an add-on of a cell phone user sample will form a benchmark to compare sampling differences with the RDD results. The cell suer sample will be compared to the land-line sample, looking at demographic characteristics of respondents, park visitation rates, and attitudinal variables. This information is needed by NPS to determine whether changes in measures racked over time represent actual shifts in knowledge, attitudes, or behavior or are instead artifacts of differences in responses between cell-only households and households with land-lines.

Comments are invited on: (1) The practical utility of the information being gathered; (2) the accuracy of the burden hour estimate; (3) ways to enhance the quality, utility, and clarity of the information to be collected; and (4) ways to minimize the burden to respondents, including sue of automated information collection techniques or other forms of information technology. Before including your address, phone number, e-mail address, or other personal identifying information in your comment, you should be aware that your entire comment—may be made publicly available at any time. While you can ask us in your foment to withhold your personal identifying information from public review, we cannot guarantee that we will be able to do so.

Frequency of collection: Once.

Description of Respondent: United States residents.

Estimated average number of respondents: 4042 per year (Final Survey: 4,000; Developmental work: focus = 12, cognitive interview = 12, pre-test calling = 20).

Estimated average number of responses: 4042 per year.

Estimated average time burden per respondent: 4 hours per respondent (Final Survey: 15 minutes/respondent; Developmental work: focus group = 90 minutes/respondent, cognitive interview = 120 minutes/respondent, pre-test calling = 15 minutes/respondent).

Frequency of response: 1 time per respondent.

Estimated total annual reporting burden: 1047 hours per year.

Dated: July 25, 2007.
Leonard E. Stowe,
NPS, Information Collection Clearance Officer.

[FR Doc. 07-4204 Filed 8-27-07; 8:45 am]

BILLING CODE 4312-52-M